DEPARTMENT OF THE INTERIOR

Fish and Wildlife Service

[FWS-R4-ES-2013-N007; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by March 11, 2013.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: Cameron Shaw, Permit Coordinator).

FOR FURTHER INFORMATION CONTACT: Cameron Shaw, telephone 904/731-3191; facsimile 904/731-3045.

SUPPLEMENTARY INFORMATION: The public is invited to comment on the following applications for permits to conduct certain activities with endangered and threatened species pursuant to section 10(a)(1)(A) of the Endangered Species Act of 1973, as amended (16 U.S.C. 1531 et seq.) and our regulations in the Code of Federal Regulations (CFR) at 50 CFR part 17. This notice is provided under section 10(c) of the Act.

If you wish to comment, you may submit comments by any one of the following methods. You may mail comments to the Fish and Wildlife Service's Regional Office (see ADDRESSES section) or via electronic mail (email) to: permitsR4ES@fws.gov. Please include your name and return address in your email message. If you do not receive a confirmation from the Fish and Wildlife Service that we have received your email message, contact us directly at the telephone number listed above (see FOR FURTHER INFORMATION CONTACT section). Finally, you may hand deliver comments to the Fish and Wildlife Service office listed above (see ADDRESSES section).

Before including your address, telephone number, email address, or other personal identifying information in your comments, you should be aware that your entire comment—including your personal identifying information—may be made publicly available at any time. While you can ask us in your comments to withhold your personal identifying information from public review, we cannot guarantee that we will be able to do so.

Permit Application Number: TE-91331A

Applicant: Timothy Day, Pensacola, Florida.

Applicant requests authorization to take (capture, mark, translocate and release) Perdido Key beach mouse (Peromyscus polionotus tryssillepsis), Choctawhatchee beach mouse (Peromyscus polionotus allophrys) and Alabama beach mouse (Peromyscus polionotus ammobates) for the purpose of conducting presence/absence surveys and assisting in species recovery efforts. These activities will be conducted in Escambia and Walton Counties, Florida and Baldwin County, Alabama.

Permit Application Number: TE-91366A

Applicant: Dr. Paul Stewart, Troy, Alabama.

Applicant requests authorization to take (capture, translocate, collect voucher specimens, and release) 68 freshwater mussels species and 17 freshwater fish species in the State of Alabama.

Permit Application Number: TE-91373A

Applicant: Jonathan Miller, Troy, Alabama.

Applicant requests authorization to take (capture, translocate, collect voucher specimens, and release) 68 freshwater mussels species and 17 freshwater fish species in the State of Alabama.

Permit Application Number: TE-84054

Applicant: URS Corporation, Franklin, Tennessee.

Applicant requests amended authorization to take (capture, handle, and release) the Etowah darter (Etheostoma etowahae) and the Conasauga logperch (Percina jenkinsi) for the purpose of conducting presence/absence surveys in Georgia.

Permit Application Number: TE-94714A

Applicant: Natural Natives Inc., Seneca, South Carolina.

Applicant requests authorization to engage in interstate commerce (sell) 19 listed plant species.

Permit Application Number: TE-206872

Applicant: Joy O'Keefe, Terre Haute, Indiana.

Applicant requests amended authorization to take (capture, mark, collect tissues, salvage, attach scientific devices and release) Virginia big-eared bats (Corynorhinus townsendii virginianus) for the purpose of scientific research. These activities will be conducted within the states of Kentucky, North Carolina, Virginia and West Virginia.

Permit Application Number: TE-54973

Applicant: North Carolina State University, Raleigh, North Carolina.

Applicant requests renewed authorization to take (capture, hold, propagate in captivity and release) St. Francis Satyr butterflies for the purpose of scientific research and species recovery. These activities will occur in North Carolina.

Permit Application Number: TE-94728A

Applicant: Environmental Consulting Operations, Benton, Arkansas.

Applicant request authorization to conduct presence/absence surveys on the American burying beetle (Nicrophorus americanus) in the State of Arkansas.

Permit Application Number: TE-95405A

Applicant: Virginia Polytechnic Institute and State University, Blacksburg, Virginia.

Applicant requests authorization to take (capture, mark, collect tissues, salvage, attach scientific devices and release) Indiana bats (Myotis sodalis) for the purpose of scientific research. These activities will be conducted at Fort Knox, Kentucky, and in Montgomery, Giles, Pulaski, Bland and Tazewell Counties, Virginia.

Permit Application Number: TE-95412A

Applicant: Kentucky Department of Environmental Protection, Frankfort, Kentucky.

Applicant requests authorization to take (capture, translocate, collect voucher specimens, and release) 29 freshwater mussels species and 6 freshwater fish species while conducting surveys and scientific research in the State of Kentucky.

Permit Application Number: TE-86220A

Applicant: Florida Museum of Natural History, University of Florida, Gainesville, Florida.

Applicant requests authorization to take (capture, translocate, temporarily house, propagate in captivity, and release) Schaus Swallowtail butterflies (Heraclides aristodemus ponceanus) in the State of Florida.

Dated: January 31, 2013.
Jacquelyn B. Parrish,
Acting Regional Director.

[FR Doc. 2013-02739 Filed 2-6-13; 8:45 am]

BILLING CODE 4310-55-P